NATIONAL AERONAUTICS AND SPACE ADMINISTRATION

[Notice (12-086)]

NASA Advisory Council; Science Committee; Meeting

AGENCY: National Aeronautics and Space Administration.

ACTION: Notice of meeting.

SUMMARY: In accordance with the Federal Advisory committee Act, Public Law 92-462, as amended, the National Aeronautics and Space Administration (NASA) announces a meeting of the Science Committee of the NASA Advisory Council (NAC). This Committee reports to the NAC. The meeting will be held for the purpose of soliciting, from the scientific community and other persons, scientific and technical information relevant to program planning.

DATES: Wednesday, November 14, 2012, 8:30 a.m. to 4:30 p.m., and Thursday, November 15, 2012, 8:30 a.m. to 3:00 p.m., Local Time.

ADDRESSES: NASA Headquarters, 300 E Street SW., Rooms 3H46 and 9H40, respectively, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. This meeting is also available telephonically and by WebEx. Any interested person may call the USA toll free conference call number (888) 606-5936; pass code “Science Committee”, to participate in this meeting by telephone. The WebEx link is https://nasa.webex.com/, the meeting number on November 14 is 993 494 156, and the password is SC@Nov14; the meeting number on November 15 is 991 469 535, and the password is SC@Nov15. The agenda for the meeting includes the following topics:

—Science Mission Directorate Overview and Program Status—Subcommittee Reports

—Joint Session with the NASA Advisory Council's Human Exploration and Operations Committee on the Mars Program Planning Group final report and Joint Robotics Precursor Activities

It is imperative that the meeting be held on these dates to accommodate the scheduling priorities of the key participants. Attendees will be requested to sign a register and to comply with NASA security requirements, including the presentation of a valid picture ID to Security before access to NASA Headquarters. Foreign Nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Marian Norris via email at mnorris@nasa.gov or by fax at (202) 358-4118. U.S. Citizens and Permanent Residents (green card holders) are requested to submit their name and affiliation 3 working days prior to the meeting to Marian Norris.

Patricia D. Rausch,
Advisory Committee Management Officer, National Aeronautics and Space Administration.

[FR Doc. 2012-27830 Filed 11-9-12; 4:15 pm]

BILLING CODE 7510-13-P